DEPARTMENT OF ENERGY

10 CFR Part 429

[Docket No. EERE-2010-BT-CE-0014]

RIN 1904-AC24

Energy Conservation Program: Certification, Compliance, and Enforcement for Consumer Products and Commercial and Industrial Equipment

Correction

In proposed rule document 2010-22353 beginning on page 56796 in the issue of Thursday, September 16, 2010 make the following correction:

§429.9 [Corrected]

On page 56816, in §429.9(c), in the first column, §429.9(c)(9) through (10) is being printed in its entirety:

(9)(i) For each basic model of direct heating equipment (not including furnaces) a sample of sufficient size shall be tested to insure that-

(A) Any represented value of estimated annual operating cost, energy consumption or other measure of energy consumption of a basic model for which consumers would favor lower values shall be no less than the higher of:

(1) The mean of the sample, or

(2) The upper 97½ percent confidence limit of the true mean divided by 1.05, and

(B) Any represented value of the fuel utilization efficiency or other measure of energy consumption of a basic model for which consumers would favor higher values shall be no greater than the lower of:

(1) The mean of the sample or

(2) The lower 97½ percent confidence limit of the true mean divided by 0.95.

(ii) In calculating the measures of energy consumption for each unit tested, use the design heating requirement corresponding to the mean of the capacities of the units of the sample.

(10) For each basic model of conventional cooking tops, conventional ovens and microwave ovens a sample of sufficient size shall be tested to insure that-

(i) Any represented value of estimated annual operating cost, energy consumption or other measure of energy consumption of a basic model for which consumers would favor lower values shall be no less than the higher of:

(A) The mean of the sample, or

(B) The upper 97½ percent confidence limit of the true mean divided by 1.05, and

(ii) Any represented value of the energy factor or other measure of energy consumption of a basic model for which consumers would favor higher values shall be no greater than the lower of:

(A) The mean of the sample, or

(B) The lower 97½ percent confidence limit of the true mean divided by 0.95.

[FR Doc. C1-2010-22353 Filed 10-4-10; 8:45 am]

BILLING CODE 1505-01-D